DEPARTMENT OF THE INTERIOR

National Park Service

National Register of Historic Places; Notification of Pending Nominations and Related Actions

Nominations for the following properties being considered for listing or related actions in the National Register were received by the National Park Service before January 28, 2006. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by February 28, 2006.

John W. Roberts,
Acting Chief, National Register/National Historic Landmarks Program.

California

San Diego County

Gregory Mountain (Chokia), Address Restricted, Pauma, 06000106

Kansas

Ellis County

Krueger Building, 811 Fort St., Hays, 06000111

McPherson County

Kuns-Collier House, 302 S. Walnut St., McPherson, 06000114

Montgomery County

Cook's Hotel, 113 West Myrtle, Independence, 06000115

Nemaha County

Prairie Grove School (Public Schools of Kansas MPS), Township Rd., “H”, SE of int with Township Rd. 232, Seneca, 06000113

Russell County

Dream Theater (Theaters and Opera Houses of Kansas MPS), 629 N. Main St., Russell, 06000112

Louisiana

Orleans Parish

New Orleans Lower Central Business District (Boundary Increase), Approx. Rampart, Tulane, Loyola, Gravier, O'Keefe and Common, New Orleans, 06000110

Massachusetts

Essex County

Frank A. Palmer and Louis B. Crary (Shipwreck), Address Restricted, Gloucester vicinity, 06000107

Nevada

Churchill County

Federal Building and Post Office (U.S. Post Offices in Nevada MPS), 90 N. Maine St., Fallon, 06000109

Nye County

Manhattan School, Gold St. bet. Mineral St. and Sexter Ave., Manhattan, 06000108

Oklahoma

Carter County

Ardmore Municipal Auditorium, 220 West Broadway, Ardmore, 06000117

Hardy Murphy Coliseum, 600 Lake Murray Dr. S, Ardmore, 06000118

Jackson County

Cross S Ranch Headquarters, 1.3 mi. W and 4 mi. N of jct. of Cty Rds N199 and E1750, Olustee, 06000119

Olustee Public Library and Park, S side 4th St. bet. C & D Sts., Olustee, 06000116

Virginia

Emporia Independent City

Greensville County Training School (Rosenwald Schools in Virginia MPS), 105 Ruffin St., Emporia (Independent City), 06000122

King and Queen County

Northbank, 453 N. Bank Rd., Walkerton, 06000121

Portsmouth Independent City

Circle, The, 3010 High St., Portsmouth (Independent City), 06000120

[FR Doc. E6-1922 Filed 2-10-06; 8:45 am]

BILLING CODE 4312-51-P